DEPARTMENT OF HEALTH AND HUMAN SERVICES

[Document Identifier: OS-0990-0452]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before March 26, 2020.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-0452-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Federal Evaluation of Making Proud Choices! (MPC!).

Type of Collection: Revision.

OMB No. 0990-0452.

Abstract: The Office of Population Affairs (OPA), U.S. Department of Health and Human Services (HHS) is requesting an extension with revision of a currently approved information collection (OMB No: 0990-0452). The purpose of the revision is to complete the nine-month follow-up data collection for the Federal Evaluation of Making Proud Choices! (MPC). The evaluation is being conducted in 15 schools across four school districts nationwide and will provide information about program design, implementation, and impacts through a rigorous assessment of a highly popular teen pregnancy prevention curriculum—MPC. Clearance is requested for three years. This revision is necessary to complete the 9-month post-baseline follow up data collection after enrolling a fourth and final cohort into the study. The follow-up survey data will be used to determine program effectiveness by comparing sexual behavior outcomes, such as postponing sexual activity, and reducing or preventing sexual risk behaviors and STDs and intermediate outcomes, such as improving exposure, knowledge and attitudes between treatment (program) and control youth. The findings from these analyses of program impacts will be of interest to the general public, to policymakers, and to schools and other organizations interested in supporting a comprehensive approach to teen pregnancy prevention. The revision request also updates the burden by removing the second (15 months post baseline) survey from the data collection.

Estimated Annualized Burden Table
Type of respondent | Number of respondents | Number of responses per respondent | Average burden per response (in hours) | Total burden hours
Youth participants | 200 | 1 | 30/60 | 100
Total |  | 1 |  | 100

Dated: February 19, 2020.
Terry Clark,
Asst Paperwork Reduction Act Reports Clearance Officer, Office of the Secretary.

[FR Doc. 2020-03716 Filed 2-24-20; 8:45 am]

BILLING CODE 4150-34-P